DEPARTMENT OF THE INTERIOR

National Park Service

[NPS-MWR-OZAR-13117; PX.P0097321D.00.1]

Notice of Availability of the Draft General Management Plan/Wilderness Study/Environmental Impact Statement for the Ozark National Scenic Riverways, Missouri

AGENCY: National Park Service, Interior.

ACTION: Notice of Availability.

SUMMARY: The National Park Service (NPS) announces the availability of the Draft General Management Plan/Wilderness Study/Environmental Impact Statement (GMP/WS/EIS) for the Ozark National Scenic Riverways (Riverways) in Missouri.

DATES: The Draft GMP/WS/EIS will remain available for public review and comment for 60 days following the publishing of the Notice of Availability in the Federal Register by the U.S. Environmental Protection Agency.

ADDRESSES: Copies of the Draft GMP/WS/EIS will be available to the public by request by writing to the Superintendent, Ozark National Scenic Riverways, 404 Watercress Drive, PO Box 490, Van Buren, MO 63965. The document is available on the Internet at the NPS Planning, Environment, and Public Comment Web site (PEPC) at http://www.parkplanning.nps.gov/ozar.

FOR FURTHER INFORMATION CONTACT: Superintendent Bill Black, at the address above, or by telephone at 573-323-4236.

SUPPLEMENTARY INFORMATION: We, the NPS, announce the availability of the Draft GMP/WS/EIS for the Riverways. This plan will guide the management of the Riverways for the next 15 to 20 years. The GMP/WS/EIS considers and describes four draft conceptual alternatives—a no-action and three action alternatives, including the NPS preferred alternative. The anticipated environmental impacts of these alternatives are also analyzed.

The no-action alternative would extend existing conditions and management trends into the future. This no-action alternative serves as a basis of comparison for evaluating the action alternatives. The NPS would maintain the Big Spring Wilderness Study Area's primitive, natural character to maintain its wilderness eligibility.

Alternative A would focus on creating visitor experiences and providing resource conditions that help visitors better understand the riverways of the past, including traditional river recreation activities reminiscent of those that occurred when the Riverways was established. Management would emphasize greater opportunities for traditional, non-mechanized forms of recreation and visitor experiences that are quieter, less crowded, and slower paced. Management would also focus on protecting natural resources and systems. Under this alternative, most of the Big Spring Wilderness Study Area would be recommended for wilderness designation.

Alternative B, the NPS preferred alternative, would enhance opportunities for visitors to discover and learn about the natural wonders and Ozark heritage of the Riverways, while maintaining a mix of traditional recreational and commercial activities. Emphasis would be placed on increasing opportunities for visitor education and connections to natural resources and cultural landscapes. Most of the Big Spring Wilderness Study Area would be recommended for wilderness designation.

Alternative C would seek to provide a diversity of outdoor recreational opportunities and experiences while maintaining the highly scenic natural setting and cultural resources. The Riverways would be managed to support higher levels and diverse types of recreational opportunities, with a focus on more intensive management to ensure that excessive impacts on resources or public safety would not occur. In addition, land-based recreational opportunities would be increased under this alternative. Approximately half of the Big Spring Wilderness Study Area would be recommended for wilderness designation.

The Draft GMP/WS/EIS focuses on key natural and cultural resources, visitor uses and experiences, soundscapes, park operations, and socioeconomic characteristics that have the potential to be affected if any of the alternatives were implemented.

If you wish to comment, you may submit your comment by any one of several methods. You are encouraged to submit comments via the PEPC Web site at the address above. You may mail comments to the National Park Service, Chris Church, Project Manager, Denver Service Center Planning Division, P.O. Box 25287, Denver, CO 80225. Finally, you may mail comments to the Superintendent at the address above. Before including your address, telephone number, email address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: May 16, 2013.
Michael T. Reynolds,
Regional Director, Midwest Region.

[FR Doc. 2013-26872 Filed 11-7-13; 8:45 am]

BILLING CODE 4310-MA-P